DEPARTMENT OF THE INTERIOR

Bureau of Land Management

[AK-963-1410-FQ; F-025943]

Public Land Order No. 7682; Partial Revocation of Public Land Order No. 3708, as modified by Public Land Order No. 6709; AK

AGENCY: Bureau of Land Management, Interior.

ACTION: Public Land Order.

SUMMARY: This order revokes a Public Land Order, as modified, insofar as it affects approximately 63 acres of land withdrawn from all forms of appropriation under the public land laws, including the mining laws for the protection of the Gilmore Satellite Tracking Station at Gilmore Creek northeast of Fairbanks, Alaska. The land is no longer needed for the purpose for which it was withdrawn.

DATES: Effective Date: December 19, 2007.

FOR FURTHER INFORMATION CONTACT: Terrie D. Evarts, Bureau of Land Management, Alaska State Office, 222 W. Seventh Avenue, # 13, Anchorage, Alaska 99513-7504, 907-271-5630.

SUPPLEMENTARY INFORMATION: The National Oceanic and Atmospheric Administration has determined that a 63-acre parcel on the east boundary of the withdrawal is excess to their needs. Upon revocation the State of Alaska application for selection made under the Alaska Statehood Act and the Alaska National Interest Lands Conservation Act becomes effective without further action by the State, if such land is otherwise available. Otherwise the land in the revocation will be subject to the terms and conditions of Public Land Order No. 5186, as amended, and any other withdrawal, applications, or segregation of record.

Order

By virtue of the authority vested in the Secretary of the Interior by section 204 of the Federal Land Policy and Management Act of 1976, 43 U.S.C. 1714 (2000), it is ordered as follows:

1. Public Land Order No. 3708, as modified by Public Land Order No. 6709, which withdrew public land from all forms of appropriation under the public land laws, including the mining laws, but not from leasing under the mineral leasing laws, is hereby revoked only insofar as it affects the following described land:

Fairbanks Meridian

T. 2 N., R. 2 E.,

sec. 20, commencing at the closing Corner marked by a 2½″ aluminum cap on an aluminum pipe stamped E-ES-MS2008 and being on the south boundary of sec. 20, T. 2 N., R. 2 E., and common to the north boundary of Mineral Survey No. 2008; proceed N 0° 10′ 01″ W along the west boundary of Tract C-3 as depicted on the Alaska State Cadastral Survey Plat filed May 24, 1994 as Instrument Number 94-72 in Fairbanks Recording District a distance of 1,455 feet to the True Point of Beginning; then continue N 0° 10′ 01″ W along the west boundary of Tract C-3 approximately 588 feet to an additional closing corner of Sec. 20 marked by an aluminum cap on an aluminum pipe stamped CC S 20, 4473-S 1993, Corner #1; then proceed N 0°10′46″ W along the aforementioned Tract C-3 a distance of about 2,950 feet to the E 1/16 corner common to secs. 17 and 20 marked by BLM with a brass cap in 1966 and 1987, Corner #2; then proceed along the section line common to secs. 17 and 20 approximately 660 feet to a point marked by an aluminum cap on an aluminum pipe stamped 17/20 E W Property Corner 1/64 NOAA 705-S; then continue west along the section line approximately 155 feet to a point that has been flagged and is located approximately 144 feet east of an existing power line at approximate latitude 64° 59.610′, longitude 147° 23.151′, Corner #3; then proceed S 03° 21′ 32″ W approximately 2,362 feet to a point, Corner #4; then proceed S 40° 06′ 01″ E approximately 1,540 feet to the True Point of Beginning. The area described contains approximately 63 acres.

2. The State of Alaska application for selection made under Section 6(a) of the Alaska Statehood Act of July 7, 1958, 48 U.S.C. note prec. 21 (2000), and under Section 906(e) of the Alaska National Interest Lands Conservation Act, 43 U.S.C. 1635(e) (2000), becomes effective without further action by the State upon publication of this Public Land Order in the Federal Register, if such land is otherwise available. Land selected by, but not conveyed to, the State will be subject to Public Land Order No. 5186, as amended, and any other withdrawal or segregation of record.

Dated: December 10, 2007.
C. Stephen Allred,
Assistant Secretary—Land and Minerals Management.

[FR Doc. E7-24560 Filed 12-18-07; 8:45 am]

BILLING CODE 4310-JA-P